DEPARTMENT OF COMMERCE

International Trade Administration

[C-533-896]

Common Alloy Aluminum Sheet From India: Preliminary Results and Partial Rescission of Countervailing Duty Administrative Review; 2022

AGENCY: Enforcement and Compliance, International Trade Administration, Department fo Commerce.

SUMMARY: The U.S. Department of Commerce (Commerce) preliminary determines that countervailable subsidies are being provided to producers and exporters of common alloy aluminum sheet (aluminum sheet) from India. The period of review (POR) is January 1, 2022, through December 31, 2022. Interested parties are invited to comment on these preliminary results.

DATES: Applicable May 2, 2024.

FOR FURTHER INFORMATION CONTACT: Samuel Evans, AD/CVD operations, Office IX, Enforcement and Compliance, International Trade Administration, U.S. Department of Commerce, 1401 Constitution Avenue NW, Washington, DC 20230; telephone: (202) 482-2420.

SUPPLEMENTARY INFORMATION:

Background

On April 27, 2021, Commerce published the countervailing duty (CVD) order on aluminum sheet from India.¹ On June 12, 2023, Commerce published in the Federal Register a notice of initiation of an administrative review of the Order.² On December 4, 2023, Commerce extended the deadline for the preliminary results until April 26, 2024.³

¹ See Common Alloy Aluminum Sheet from Bahrain, India, and the Republica of Turkey: Countervailing Duty Orders, 86 FR 22144 (April 27, 2021) (Order).

² See Initiation of Antidumping and Countervailing Duty Administrative Reviews, 88 FR 38201 (June 12, 2023).

³ See Memorandum, “Extension of Deadline for Preliminary Results of 2022 Countervailing Duty Administrative Review,” dated concurrently with, and hereby adopted by this notice (Preliminary Decision Memorandum).

For a complete description of the events that followed the initiation of this review, see the Preliminary Decision Memorandum.⁴ A list of topics discussed in the Preliminary Decision Memorandum is included in an appendix to this notice. The Preliminary Decision Memorandum is a public document and is on file electronically via Enforcement and Compliance's Antidumping and Countervailing Duty Centralized Electronic Service System (ACCESS). ACCESS is available to registered users at https//access.trade.gov. In addition, a complete version of the Preliminary Decision Memorandum can be accessed directly at https//access.trade.gov/public/FRNoticesListLayout.aspx.

⁴ See Memorandum, “Decision Memorandum for the Preliminary Determination of the Countervailing Duty Investigation of Common Alloy Aluminum Sheet from India,” dated concurrently with, and hereby adopted by, this notice (Preliminary Decision Memorandum).

Scope of the Investigation

The merchandise covered by this Order is aluminum sheet from India. For a complete description of the scope of the Order, see the Preliminary Decision Memorandum.

Rescission of Administrative Review, in Part

Pursuant to 19 CFR 351.213(d)(3), Commerce's practice is to rescind an administrative review of a CVD order when it concludes that there are no suspended entries of subject merchandise during the POR.⁵ Normally, upon completion of an administrative review, the suspended entries are liquidated at the countervailing duty assessment rate calculated for the review period.⁶ Therefore, for an administrative review of a company to be conducted, there must be a reviewable, suspended entry that Commerce can instruct U.S. Customs and Border Protection (CBP) to liquidate at the calculated countervailing duty assessment rate calculated for the review period.⁷

⁵ See, e.g., Lightweight Thermal Paper from the People's Republic of China: Notice of Rescission of Countervailing Duty Admininstrative Review; 2015, 82 FR 14349 (March 20, 2017); see also Circular Welded Carbon Quality Steel Pipe from the People's Republic of China: Rescission of Countervailing Duty Administrative Review; 2017, 84 FR 14650 (April 11, 2019).

⁶ See 19 CFR 351.212(b)(2).

⁷ See 19 CFR 351.213(d)(3).

According to the CBP import data, Jindal Aluminum Limited (Jindal) did not have a reviewable entry of subject merchandise during the POR for which liquidatin is suspended.⁸ Therefore, we notified interested parties that we intended to rescind this administrative review with respect to Jindal and provided parties an opportunity to submit comments, including factual information to demonstrate whether there were reviewable entries during the POR for Jindal.⁹ We received no comments in response to this memorandum. Therefore, in the absence of suspended entries of subject merchandise duing the POR, in accordance with 19 CFR 351.213(d)(3), we are rescinding this administrative review with respect to Jindal.

⁸ See Memorandum, “Release of Customs and Broder Protection Data Query,” dated June 23, 2023.

⁹ See Memorandum, “Notice of Intent to Rescind Review, In Part,” dated December 27, 2023.

Methodology

Commerce is conduing this CVD administrative review in accordance with section 751(a)(1)(A) of the Tariff Act of 1930, as amended (the Act). For each of the subsidy programs found countervailable, Commercie preliminary determines that there is a subsidy, i.e., a financial contribution by an “authority” that gives rise to a benefit to the recipient, and that the subsidy is specific.¹⁰ For a full description of the methodology underlying our preliminary conclusions, see the Preliminary Decision Memorandum.

¹⁰ See sections 771(5)(B) and (D) of the Act regarding financial contribution; section 771(5)(E) of the Act regarding benefit; and section 771(5)(A) of the Act regarding specifically.

Company Not Selected for Individual Examination

The Act and Commerce's regulations do not directly address the subsidy rate to be applied to companies not selected for individual examination where Commerce limits its examination in an administrative review pursuant to section 777A(e)(2) of the Act. However, Commerce normally determines the rates for non-selected companies in reviews in a manner that is consistent with section 705(c)(5) of that Act, which provides instructions for calculating the all-others rate in an investigation. Section 777A(e)(2) fo the Act provides that “the individual countervailable subsidy rates determined under subparagraph (A) shall be used to determine the all-others rate under section 705(c)(5) {of the Act}.” Section 705(c)(5)(A) of the Act states that for companies not investigated, in general we will determine an all-others rate by weight averaging the countervailable subsidy rates established for each of the companies individually investigated, excluding zero and de minimis rates or any rate based on solely on the facts available.

According, to determine the rate for Virgo Aluminum Limited (Virgo), the company not selected for individual examination, Commerce's practice is to weight average the net subsidy rates for the selected mandatory respondents, excluding rates that are zero, de minimis, or based entirely on facts available.¹¹ We selected Hindalco Industries Limited (Hindalco) and Manaksia Aluminum Company Limited (MALCO) for review as mandatory respondents and preliminary determine that each received countervailable subsidies at above de minimis rates. Therefore, for the POR, we are assigning Virgo a weighted average of the subsidy rates calculated for Hindalco and MALCO using each company's public ranged data for the value of it's exports of subject merchandise to the United States.¹²

¹¹ See, e.g., Certain Pasta from Italy: Final Results of the 13th (2008) Countervailing Duty Administrative Review, 75 FR 37386, 37387 (June 29, 2010).

¹² See Memorandum, “Calculation of Rate for Company Not Selected for Individual Examination,” dated concurrently with this notice.

Preliminary Results of Review

As a result of this review, we preliminarily determine the following net countervailable subsidy rates for the period January 1, 2022, through December 31, 2022:

Company | Subsidy rate 2022 (percent ad valorem)
Hindalco Industries Limited ¹³ | 54.12
Manaksia Aluminum Company Limited | 2.90
Virgo Aluminum Limited | 5.32

Disclousre and Public Comment

¹³ As discussed in the Preliminary Decision Memorandum, Commerce has found the following compaies to be cross-owned with Hindalco; Hindalco-Almex Aerospace Limited, Minerals Minerals Limited, Utkal Alumina International Limited, Suvas Holding Limited, and Birla Copper Asoj Private Limited.

Commerce intends to disclose its calculations performed to interested parties for these preliminary results within five days of any public announcement or, if there is no public announcement, within five days of the date of publication of this notice in the Federal Register in accordance with 19 CFR 351.224(b).

Pursuant to 19 CFR 351.309(c), interested parties may submit case briefs to Commerce no later than 30 days after the date of publication of this notice. Rebuttal briefs, limited to issues raised in the case briefs, may be filed not later than five days after the date for filing case briefs.¹⁴ Interested parties who submit case briefs or rebuttal briefs in this proceeding must submit: (1) a table of contents listing each issue; and (2) a table of authorities.¹⁵ All briefs must be filed electronically using ACCESS. An electronically filed document must be received successfully in its entirety in ACCESS by 5:00 p.m. Eastern Time on the established deadline. As provided under 19 CFR 351.309(c)(2) and (d)(2), in prior proceedings we have encouraged interested parties to provide an executive summary of their brief that should be limted to five pages total, including footnotes. In this review, we instead request that interested parties provide at the beginning of their briefs a public, executive summary for each issue raised in their briefs.¹⁶ Further we request that interested parties limit their public executive summary of each issue to no more than 450 words, not including citations. We intend to use the public executive summaries as the basis of the comment summaries included in the issues and decision memorandum that will accompany the final results in this administravtive review. We request that interested parties include footnotes for relevant citations in the public executive summary of each issue. Note that Commerce has amended certain of its requirements pertaining to the service of documents in 19 CFR 351.303(f).¹⁷

¹⁴ See 19 CFR 351.309(d); see also Administrative Protective Order, Service, and Other Procedures in Antidumpting and Countervailing Duty Proceedings, 88 FR 67069, 67077 (Sepember 29, 2023).

¹⁵ See 19 351.209(c)(2) and (d)(2).

¹⁶ We use the term “issue” here to describe an argument that Commerce would normally address in a comment of the Issues and Decision Memorandum.

¹⁷ See Administrative Protective Order, Service, and Other Procedures in Antidumping and Countervailing Duty Proceedings; Final Rule, 88 FR 67069 (September 29, 2023).

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. If a request for a hearing is made, Commerce will inform parties of the scheduled date for the hearing. An electronically filed hearing request must be received successfully in its enterety by Commerce's electronic records system, ACCESS, by 5:00 p.m. Eastern Time within 30 days after the date of publication of this notice.

Final Results

Unless the deadline is extended pursuant to section 751(a)(3)(A) of the Act and 19 CFR 351.213(h)(2), Commerce intends to issue the final results of this administrative review, including the results of its analysis of the issues raised by parties in their comments, within 120 days after the date of publication of these preliminary results.

Assessment Rates

Consistent with section 751(a)(1) of the Act and 19 CFR 351.212(b)(2), upon issuance of the final results, Commerce will determine, and CBP shall assess, countervailing duties on all appropriate entries covered by this review. We intend to issue intstruction to CBP no earlier than 35 days after the date of publication of the final results of this review in the Federal Register. If a timely summons is filed at the U.S. Court of International Trade, the assessment instructions will direct CBP not to liquidate relevant entries until the time for parties to file a request for a statutory injunction has expried (i.e., within 90 days of publication).

For Jindal, the company for which we are rescinding this administrative review, Commerce will instruct CBP to assess countervailing duties on all apppropriate entries at a rate equal to the cash deposit of estimated countervailing duties required at the time of entry, or withdrawal from warehouse, for consumption, during the period January 1, 2022, through December 31, 2022, in accordance with 19 CFR 351.212(c)(l)(i). Commerce intends to issue apprporate assessment instructions directly to CBP no earlier than 35 days after the date of publication of this notice in the Federal Register.

Cash Deposit Requirements

In accordance with section 751(a)(2)(C) fo the Act, Commerce also intends, upon publication of the final results, to instruct CBP to collect cash deposits of estimated countervailing duties in the amounts shown for each of the companies listed above with regard to shipments of subject merchandise entered, or withdrawn from warehouse, for consumption on or after the date of publication of the final results of this review. For all non-reviewed firms, CBP will continue to collect cash deposits of estimated countervailing duties at the all-others rate or the most recent company-specific rate applicable to the company, as appropirate. These cash deposit requirements, when imposed, shall remain in effect until futher notice.

Notificatin to Interested Parties

We are issuing and publishing these preliminary results in accordance with sections 751(a)(1) and 777(i)(1) of the Act, and 19 CFR 351.221(b)(4).

Dated: April 26, 2024.
Ryan Majerus,
Deputy Assistant Secretary for Policy and Negotiations, performing the Non-exclusive Functions and Duties of the Assistant Secretary for Enforcement and Compliance.

Appendix

List of Topics Discussed in the Preliminary Decision Memorandum

I. Summary

II. Background

III. Scope of the Order

IV. Subsidies Valuation

V. Benchmarks and Discount Rates

VI. Analysis of Programs

VII. Recommendation

[FR Doc. 2024-09590 Filed 5-1-24; 8:45 am]

BILLING CODE 3510-DS-P